DEPARTMENT OF HOMELAND SECURITY

Federal Emergency Management Agency

Agency Information Collection Activities: Submission for OMB Review; Comment Request

AGENCY: Federal Emergency Management Agency, DHS.

ACTION: Notice and request for comments.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use. This collection was modified during the 60-day comment period to change the annual burden hours from ten to twelve. This change will capture the increase in burden hour and cost to respondents.

Title: Approval and Coordination of Requirements to use the NETC for Extracurricular Training Activities.

OMB Number: 1660-0029.

Abstract: The National Emergency Training Center (NETC) is a FEMA facility, which houses all FEMA employees in headquarters, regions, field establishments, and other individuals and organizations authorized to use the facility, which provides training and educational programs in emergency response, preparedness, fire prevention and control, disaster response, and long-term disaster recovery.

Affected Public: State, Local or Tribal Government, Individuals or households, Business or other for-profit, Not-for-profit institutions, Farms, and Federal Government.

Number of Respondents: 60.

Estimated Time per Respondent: FEMA Form75-10, 6 minutes and FEMA Form 75-11, 6 minutes.

Estimated Total Annual Burden Hours: 12 minutes.

Frequency of Response: On occasion.

Comments: Interested persons are invited to submit written comments on the proposed information collection to the Office of Information and Regulatory Affairs, Office of Management and Budget, Attention: Nathan Lesser, Desk Officer, Department of Homeland Security/FEMA, and sent via electronic mail to oira_submission@omb.eop.gov or faxed to (202) 395-6974. Comments must be submitted on or before September 28, 2007.

FOR FURTHER INFORMATION CONTACT: Requests for additional information or copies of the information collection should be made to Chief, Records Management, FEMA, 500 C Street, SW., Room 609, Washington, DC 20472, facsimile number (202) 646-3347, or e-mail address FEMA-Information-Collections@dhs.gov.

Dated: August 21, 2007.
John A. Sharetts-Sullivan,
Chief, Records Management and Privacy Information Resources Management Branch, Information Technology Services Division, Federal Emergency Management Agency, Department of Homeland Security.

[FR Doc. E7-17083 Filed 8-28-07; 8:45 am]

BILLING CODE 9110-17-P